DEPARTMENT OF ENERGY

Federal Energy Regulatory Commission

[Project No. 13438-002]

Free Flow Power Iowa 1, LLC; Notice of Successive Preliminary Permit Application Accepted for Filing and Soliciting Comments, Motions To Intervene, and Competing Applications

On January 2, 2013, Free Flow Power Iowa 1, LLC (FFP Iowa) filed an application for a preliminary permit, pursuant to section 4(f) of the Federal Power Act (FPA), proposing to study the feasibility of the Mississippi Lock and Dam 12 Water Power Project (Mississippi L+D 12 Project or project) to be located at the existing U. S. Army Corps of Engineers (Corps) Mississippi River Lock and Dam No. 12 on the Mississippi River near the City of Bellevue, Jackson County, Iowa. The sole purpose of a preliminary permit, if issued, is to grant the permit holder priority to file a license application during the permit term. A preliminary permit does not authorize the permit holder to perform any land-disturbing activities or otherwise enter upon lands or waters owned by others without the owners' express permission.

The proposed project would consist of the following new facilities: (1) A powerhouse located at the east end of the movable section of the dam and containing six horizontal bulb turbines with a total nameplate capacity of 17.06 megawatts; (2) a 69-kilovolt, 4,940-foot-long overhead transmission line connecting the project generation with Alliant Energy transmission facilities; and (3) appurtenant facilities. The majority of the project would be located on lands owned by the United States government and operated by the United States Army Corps of Engineers. The estimated annual generation of the Mississippi L+D 12 Project would be 85.4 gigawatt-hours.

Applicant Contact: Daniel Lissner, Free Flow Power Corporation, 239 Causeway Street, Suite 300, Boston, MA 02114; phone: (978) 252-7111.

FERC Contact: Sergiu Serban; phone: (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13438) in the docket number field to access the document. For assistance, contact FERC Online Support.

Dated: March 27, 2013.
Kimberly D. Bose,
Secretary.

[FR Doc. 2013-07680 Filed 4-2-13; 8:45 am]

BILLING CODE 6717-01-P